DEPARTMENT OF DEFENSE

Office of the Secretary

[Docket ID: DoD-2022-HA-0090]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 26, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Health Agency, 7700 Arlington Blvd., Falls Church, VA 22042, Terry McDavid, 703-681-3645.

SUPPLEMENTARY INFORMATION:

Title; Associated Form; and OMB Number: Unmet Needs of Transgender Military Patients at Madigan Army Medical Center; OMB Control Number 0720-MAMC.

Needs and Uses: This collection is necessary in order to identify the unmet needs of transgender patients at Madigan Army Medical Center. Policy changes (and subsequent reversal) regarding transgender military members has limited transgender patient care and has led to confusion around services provided. Military providers do not generally have experience or special training in caring for the transgender population and may lack the expertise needed for optimal patient care. This activity will develop and distribute an anonymous survey to accomplish the goal of identifying these unmet needs in order to find areas for improvement and optimize transgender care at Madigan Army Medical Center.

Affected Public: Federal Government.

Annual Burden Hours: 59.

Number of Respondents: 59.

Responses per Respondent: 1.

Annual Responses: 59.

Average Burden per Response: 1 hour.

Frequency: On occasion.

Dated: July 20, 2022.
Aaron T. Siegel,
Alternate OSD Federal Register Liaison Officer, Department of Defense.

[FR Doc. 2022-15949 Filed 7-25-22; 8:45 am]

BILLING CODE 5001-06-P